DEPARTMENT OF TRANSPORTATION

Federal Aviation Administration

14 CFR Part 39

[Docket No. 2000-SW-23-AD; Amendment 39-12062; AD 2000-26-12]

RIN 2120-AA64

Airworthiness Directives; Eurocopter Deutschland GmbH Model EC135 P1 and EC135 T1 Helicopters

AGENCY: Federal Aviation Administration, DOT.

ACTION: Final rule.

SUMMARY: This amendment adopts a new airworthiness directive (AD) for Eurocopter Deutschland GmbH (ECD) Model EC135 P1 and EC135 T1 helicopters that requires inspecting the hydraulic line shielding hose (hose), replacing any unairworthy hose with an airworthy hose, and installing a nylon cable tie. This amendment is prompted by the tail rotor drive shaft Thomas coupling contacting and chafing the hose that shields the fenestron tail rotor hydraulic lines. The actions specified by this AD are intended to prevent damage to the hose, leaking of accumulated hydraulic fluid to an area with an ignition source, inflight fire, and subsequent loss of control of the helicopter.

DATES: Effective February 6, 2001.

The incorporation by reference of certain publications listed in the regulations is approved by the Director of the Federal Register as of February 6, 2001.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: A proposal to amend part 39 of the Federal Aviation Regulations (14 CFR part 39) to include an airworthiness directive (AD) for ECD Model EC135 P1 and EC135 T1 helicopters was published in the Federal Register on September 18, 2000 (65 FR 56273). That action proposed to require, within 50 hours time-in-service (TIS), inspecting the hose for damage. If damage is found, replacing the unairworthy hose with an airworthy hose within 25 hours TIS was proposed. Also proposed was installing a nylon cable tie to increase the clearance between the drive shaft and the hose.

Interested persons have been afforded an opportunity to participate in the making of this amendment. No comments were received on the proposal or the FAA's determination of the cost to the public. The FAA has determined that air safety and the public interest require the adoption of the rule as proposed.

The FAA estimates that 25 helicopters of U.S. registry will be affected by this AD, that it will take approximately 9.75 work hours per helicopter to accomplish the required actions, and that the average labor rate is $60 per work hour. Based on these figures, the total cost impact of the AD on U.S. operators is estimated to be $14,625 assuming no parts will be required.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-26-12 Eurocopter Deutschland GmbH: Amendment 39-12062. Docket No. 2000-SW-23-AD.

Applicability: Model EC135 P1 and EC135 T1 helicopters, serial numbers 0005 through 0094 with hydraulic line shielding hose DN 56 (hose), part number (P/N) L290M20X1 001, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent damage to the hose, leaking of accumulated hydraulic fluid to an area with an ignition source, inflight fire, and subsequent loss of control of the helicopter, accomplish the following:

(a) Within 50 hours time-in-service (TIS),

(1) Inspect the hose in accordance with the Accomplishment Instructions, paragraph 3.A., of Eurocopter Alert Service Bulletin EC 135-29A-003, dated February 24, 1999 (ASB). If a damaged hose is found, within 25 hours TIS, replace the unairworthy hose with an airworthy hose in accordance with the Accomplishment Instructions, paragraph 3.B., of the ASB.

(2) Install a nylon cable tie in accordance with the Accomplishment Instructions, paragraph 3.C., of the ASB.

(b) Inspecting the hose, replacing any unairworthy hose with an airworthy hose, and installing a nylon cable tie constitute terminating action for the requirements of this AD.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits may be issued in accordance with sections 21.197 and 21.199 of the Federal Aviation Regulations (14 CFR 21.197 and 21.199) to operate the helicopter to a location where the requirements of this AD can be accomplished.

(e) The inspection and modification, if necessary, shall be done in accordance with Accomplishment Instructions, paragraph 3.A. and paragraph 3.B, of Eurocopter Alert Service Bulletin EC 135-29A-003, dated February 24, 1999. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(f) This amendment becomes effective on February 6, 2001.

Issued in Fort Worth, Texas, on December 18, 2000.
Henry A. Armstrong,
Manager, Rotorcraft Directorate, Aircraft Certification Service.

[FR Doc. 00-33334 Filed 12-29-00; 8:45 am]

BILLING CODE 4910-13-P